DEPARTMENT OF ENERGY

Federal Energy Regulatory Commission

[Project No. 77-212]

Pacific Gas and Electric Company; Notice of Application for Amendment of License and Soliciting Comments, Motions To Intervene, and Protests

September 19, 2008.

Take notice that the following hydroelectric application has been filed with the Commission and is available for public inspection:

a. Type of Application: Amendment of license (for proposed long-term frost protection and late fall irrigation plan).

b. Project No.: 77-212.

c. Date Filed: August 26, 2008.

d. Applicant: Pacific Gas and Electric Company (licensee).

e. Name of Project: Potter Valley Hydroelectric Project.

f. Location: On the Eel River and East Branch Russian River in Lake and Mendocino counties, California.

g. Filed Pursuant to: Federal Power Act, 16 U.S.C. 791a-825r.

h. Applicant Contact: Mr. Richard J. Doble, Senior License Coordinator, Pacific Gas and Electric Company, P.O. Box No. 770000, San Francisco, CA 94177; (415) 973-4480.

i. FERC Contact: CarLisa Linton-Peters, telephone (202) 502-8416; e-mail: carlisa.linton-peters@ferc.gov.

j. Deadline for filing comments, motions to intervene and protests is November 4, 2008.

Please include the project number (P-77) on any comments or motions filed. All documents (an original and eight copies) must be filed with: Kimberly D. Bose, Secretary, Federal Energy Regulatory Commission, 888 First Street, NE., Washington, DC 20426.

Motions to intervene, protests, comments and recommendations may be filed electronically via the Internet in lieu of paper filings, see 18 CFR 385.2001(a)(1)(iii) and the instructions on the Commission's Web site (http://www.ferc.gov) under the “e-filing” link. The Commission strongly encourages electronic filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Pacific Gas and Electric Company (licensee) is requesting that its license for the Potter Valley Project be amended to allow the licensee to implement its proposed plan to provide long-term frost protection and late fall irrigation water for commercial crops in the Potter Valley area. The proposed plan was required by Commission Order Granting Temporary Amendment of License Article 52, issued March 13, 2008. Implementation of the proposed plan would require modifications to license article 52 which includes the Reasonable and Prudent Alternative of the National Marine Fisheries Service Biological Opinion, approved and made a part of the license by Order Amending License, issued January 28, 2004.

l. Location of the Application: A copy of the filing is available for inspection and reproduction at the Commission's Public Reference Room, located at 888 First Street, NE., Room 2A, Washington, DC 20426, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call toll-free at 1-866-208-3372 or e-mail ferconlinesupport@ferc.gov, or for TTY, call (202) 502-8659. A copy of this filing is also available for inspection and reproduction at the address listed in item (h) above.

m. Mailing list: Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application (see item (j) above).

o. Any filing must bear in all capital letters the title “COMMENTS”, “PROTEST”, “MOTION TO INTERVENE”, or “RECOMMENDATIONS”, as applicable, and the Project Number of the particular application to which the filing refers.

p. Agency Comments: Federal, State, and local agencies are encouraged and invited to file comments on the described application. A copy of the application may be obtained by agencies directly from the Applicant. If an agency does not file comments within the time specified for filing comments (see item (j) above), it will be presumed to have no comments. One copy of an agency's comments must also be sent to the Applicant's representatives.

q. Comments, protests and motions of intervention may be filed electronically via the Internet in lieu of paper filings. See 18 CFR 385.20019(a)(1)(iii) and the instructions on the Commission's Web site at http://www.ferc.gov under the “e-Filing” link.

Kimberly D. Bose,
Secretary.

[FR Doc. E8-22626 Filed 9-25-08; 8:45 am]

BILLING CODE 6717-01-P